DEPARTMENT OF DEFENSE

Office of the Secretary

Board of Visitors Meeting

AGENCY: Defense Acquisition University.

ACTION: Board of Visitors Meeting.

SUMMARY: The next meeting of the Defense Acquisition University (DAU) Board of Visitors (BoV) will be held at Defense Acquisition University-Fort Belvoir, VA. The purpose of this meeting is to report back to the BoV on continuing items of interest.

DATES: January 25, 2006 from 0900-1500.

ADDRESSES: Scott Hall, Defense Acquisition University, Fort Belvoir, VA 22060.

FOR FURTHER INFORMATION CONTACT: Ms. Patricia Cizmadia at 703-805-5134.

SUPPLEMENTARY INFORMATION: The meeting is open to the public; however, because of space limitations, allocation of seating will be made on a first-come, first-served basis. Persons desiring to attend the meeting should call Ms. Patricia Cizmadia at 703-805-5134.

Dated: December 20, 2005.
L. M. Bynum,
Alternate OSD Federal Register Liaison Officer, Department of Defense.

[FR Doc. 05-24441 Filed 12-23-05; 8:45am]

BILLING CODE 5001-06-M